DEPARTMENT OF AGRICULTURE

Forest Service

Notice of New Recreation Fee Site; Federal Lands Recreation Enhancement Act, (Title VIII, Pub. L. 108-447)

AGENCY: Caribou-Targhee National Forest, USDA Forest Service.

ACTION: Notice of New Recreation Fee Sites.

SUMMARY: The Soda Springs Ranger District of the Caribou-Targhee National Forest is proposing to take reservations for group camping and group day use picnicking at the Trail Canyon Group Site on the Soda Springs Ranger District. They are proposing to charge a $40 fee per day for group camping and group day use picnicking (up to a maximum of 100 people). Fees are assessed based on the level of amenities and services provided, cost of operations and maintenance, market assessment and public comment. The fee is proposed and will be determined upon further analysis and public comment. To date, an analysis of the facility shows that the proposed fees are reasonable and typical of similar sites in the area. Use at other similar facilities on the Caribou-Targhee National Forest has shown that publics appreciate and enjoy the availability of developed recreation campground and picnicking facilities. This facility will remain free of charge during the winter season as a warming shelter. Funds from the use of these developed facilities will be used for the continued operation and maintenance of the Trail Canyon Group Site.

DATES: Comments will be accepted through July 16, 2010. Trail Canyon Group Site will become available to the public for group camping and group day use picnicking from May 15 through October 31 each year.

ADDRESSES: Forest Supervisor, Caribou-Targhee National Forest, 1405 Hollipark Dr., Idaho Falls, Idaho 83401.

FOR FURTHER INFORMATION CONTACT: Maury Young, Recreation Technician, 208-847-0375.

SUPPLEMENTARY INFORMATION: The Federal Recreation Lands Enhancement Act (Title VII, Pub. L. 108-447) directed the Secretary of Agriculture to publish a six month advance notice in the Federal Register whenever new recreation fee areas are established. The Caribou-Targhee National Forest currently has over 40 other developed campgrounds. These campgrounds are well used and are very popular during the summer and fall seasons. A business analysis of this campground/picnic area has shown that people desire having this sort of developed recreation experience on the Caribou-Targhee National Forest. A market analysis indicates that the $40 group fee (up to a maximum of 100 people) per night is both reasonable and acceptable for this type of recreation experience.

Dated: January 25, 2010.
Brent L. Larson,
Forest Supervisor.

[FR Doc. 2010-2080 Filed 2-3-10; 8:45 am]

BILLING CODE 3410-11-M